DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Docket Number FRA-2005-22824

Applicant: National Railroad Passenger Corporation, Mr. William Crosbie, Senior Vice President, Operations, 60 Massachusetts Avenue, NE., Washington, DC 20002.

The National Railroad Passenger Corporation (Amtrak) with the concurrence from Connecticut Department of Transportation (CDOT) and the Providence and Worcester Railroad Company (P&W), seeks approval of the proposed modification of five remote-controlled interlockings protecting movable bridges on Amtrak's Northeast Corridor, New England Division, in Connecticut, on Main Tracks No. 1 and No. 2, as follows:

1. The discontinuance and removal of the four power-operated derails at “Conn,” milepost 106.8, at the Connecticut River, in Old Saybrook, Connecticut;

2. The discontinuance and removal of the four power-operated derails at “Nan,” milepost 116.7, at the Niantic River, in Niantic, Connecticut;

3. The discontinuance and removal of the four power-operated derails at “Shaws Cove,” milepost 122.5, in New London, Connecticut;

4. The discontinuance and removal of the four power-operated derails at “Groton,” milepost 124.2, at the Thames River, Groton, Connecticut; and

5. The discontinuance and removal of the four power-operated derails at “Mystic River,” milepost 131.9, in Mystic, Connecticut;

The changes proposed consist of the removal of four derails at each interlocking, one for each track in each direction. Each of the interlocking home signals protecting these derails and the associated movable bridges have been equipped with the Northeast Corridor 100 Hz coded cab signal system with speed control, or Automatic Train Control (ATC). The interlockings have also been equipped with Amtrak's Advanced Civil Speed Enforcement System (ACSES) Positive Train Stop (PTS), in addition to ATC.

The reason given for the proposed changes is that removal of the derails is to eliminate maintenance and operation of obsolete hardware no longer needed, and to reduce delays to trains caused by failures of the derails and the associated movable bridges. The derails have been rendered obsolete by ATC and ACSES technologies, which enforce slowing and stopping of trains prior to passing the interlocking home signals in stop position, rather than derail the train after it passes the stop signal.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on November 15, 2005.
Grady C. Cothen, Jr.,
Deputy Associate Administrator for Safety Standards and Program Development.

[FR Doc. 05-23026 Filed 11-21-05; 8:45 am]

BILLING CODE 4910-06-P